DEPARTMENT OF TRANSPORTATION

Federal Aviation Administration

Public Notice for a Change in Use of Aeronautical Property at Lancaster Airport in Lititz, Pennsylvania

AGENCY: Federal Aviation Administration (FAA), DOT.

ACTION: Request for public comment.

SUMMARY: The Federal Aviation Administration is requesting public comment on Lancaster Airport Authority's (LAA) request to change 5 acres of airport property from aeronautical use to non-aeronautical use. The parcel was purchased as part of a larger parcel with AIP grants 3-42-0049-022-2002 and 3-42-0049-023-2002. The property was purchased as part of a road relocation for the Runway 8-26 extension project and is located in an area that would be difficult for future aeronautical development. The LAA is requesting approval to release the parcel for permanent non-aeronautical use to erect a vehicle maintenance garage facility. The parcel is identified as 3E on the Airport Layout Plan (ALP). The proposed facility is not currently noted on the ALP, however, if approved, the ALP will be updated to reflect the facility. Documents reflecting the Sponsor's request are available, by appointment only, for inspection at the Airport Manager's office and the FAA Airport District Office.

DATES: Comments must be received on or before March 28, 2022.

ADDRESSES: Documents are available for review at the:

Airport Manager's Office, Ed Foster, 500 Airport Road, Lititz, PA 17543, (717) 569-1221.

And/or

FAA Airport District Office, Paul Higgins, 3905 Hartzdale Drive, Suite 508, Camp Hill, PA 17011, 717-730-2843.

Written comments on the Sponsor's request must be delivered or mailed to Paul Higgins at the above address.

SUPPLEMENTARY INFORMATION: Section 125 of The Wendell H. Ford Aviation Investment and Reform Act for the 21st Century (AIR-21) requires the FAA to provide an opportunity for public notice and comment prior to the “waiver” or “modification” of a sponsor's Federal obligation to use certain airport land for aeronautical purposes.

The LAA is requesting approval to release a parcel for permanent non-aeronautical use to erect a vehicle maintenance garage facility in Area 3E. Area 3E consists of 5 acres east of the Air Traffic Control Tower along the northern limit of the airport property. The corners of Area 3E are: NW: 40°7′33.066″, −76°17′37.28″, NE: 40°7′37.786″, −76°17′27.11″, SE: 40°7′33.515″, −76°17′35.38″, and SW: 40°7′32.35″, −76°17′26.314″.

The facility, once completed, will be leased to the local school district to perform bus vehicle maintenance. The established rental rate is the cost of the project spread out over 20 years. The preliminary cost of the project is approximately $1,135,000 along with cost escalators over the 20 year lease period. The anticipated income over the 20 year lease period is $2,369,800.

The LAA is proposing to build an 85′ X 57′ single-story; slab-on-grade Maintenance Building approximately 900' north of Runway 8-26 on airport property. The Pre-Engineered Metal Building includes office space, two (2) service bays, and one (1) wash bay and will be constructed parallel to Millport Road along the northern edge of airport property. Coordinates of the building's four corners: NW: 40°7′33.48″, −76°17′36.38″, NE: 40°7′33.62″, −76°17′35.66″, SE: 40°7′32.80″, −76°17′35.38″, SW: 40°7′32.66″, −76°17′36.10″.

The facility remains the property of the LAA and will bring in necessary non-aviation income. The facility will be able to be utilized by other types of users in the event that the current tenant does not remain on the property. The tenant currently rents adjacent to where the maintenance facility will be located to store their school buses.

Rick W. Harner,
Manager, Harrisburg Airports District Office.

[FR Doc. 2022-06369 Filed 3-25-22; 8:45 am]

BILLING CODE P